NATIONAL SCIENCE FOUNDATION

Advisory Committee for Education and Human Resources; Meeting

In accordance with the Federal Advisory Committee Act (Pub. L. 92-463, as amended), the National Science Foundation announces the following meeting.

Name: Advisory Committee for Education and Human Resources (#1119).

Dates/Time: May 15, 2002, 8:30 a.m.-6 p.m.; May 16, 2002, 8:20 a.m.-3 p.m.

Place: National Science Foundation, 4201 Wilson Boulevard, Arlington, VA.

Type of Meeting: Open.

Contact Person: John B. Hunt, Senior Liaison, ACEHR, Directorate for Education and Human Resources, National Science Foundation, 4201 Wilson Boulevard, Room 805, Arlington, VA 22230, 703-292-8602.

Summary Minutes: May be obtained from contact person listed above.

Purpose of Meeting: To provide advice and recommendations concerning NSF support for Education and Human Resources.

Agenda: Discussion of FY 2002 programs of the Directorate for Education and Human Resources and planning for future activities.

Dated: April 16, 2002.
Susanne Bolton,
Committee Management Officer.

[FR Doc. 02-9667 Filed 4-18-02; 8:45 am]

BILLING CODE 7555-01-M